DEPARTMENT OF STATE

[Public Notice: 11279]

Global Magnitsky Human Rights Accountability Act Annual Report

ACTION: Notice.

SUMMARY: This notice contains the text of the report required by the Global Magnitsky Human Rights Accountability Act, as submitted by the Secretary of State.

FOR FURTHER INFORMATION CONTACT: Bob Viglietta, Email: VigliettaR@state.gov, Phone: (202) 647-8836.

SUPPLEMENTARY INFORMATION: On December 10, 2020, the Secretary of State approved the following report pursuant to the Global Magnitsky Human Rights Accountability Act (Pub. L. 114-328, Title XII, Subtitle F) (“the Act”), which is implemented and built upon by Executive Order 13818 of December 20, 2017, “Executive Order Blocking the Property of Persons Involved in Serious Human Rights Abuse or Corruption” (E.O. 13818). The text of the report follows:

Pursuant to Section 1264 of the Act, and in accordance with E.O. 13818, the Secretary of State, in consultation with the Secretary of the Treasury, submits this report to detail the Administration's implementation of the Act in 2020.

In 2020, the United States took significant action under the Global Magnitsky sanctions program (“Global Magnitsky”). As of December 10, 2020, the United States has designated 243 foreign persons (individuals and entities) pursuant to E.O. 13818. This sanctions program, which targets serious human rights abusers, corrupt actors, and their enablers, represents the best of the United States' values by taking impactful steps to protect and promote human rights and combat corruption around the world. Through the Act and E.O. 13818, the United States has sought to disrupt and deter serious human rights abuse and corruption abroad; promote accountability for those who act with impunity; and protect, promote, and enforce longstanding international norms alongside our partners and allies.

As the President outlined in his National Security Strategy (NSS), liberty, free enterprise, equal justice under the law, and the dignity of every human life are values that represent who we are as a people. Further, the NSS states we support with our words and actions those who live under oppressive regimes and seek freedom, individual dignity, and the rule of law. The NSS outlines a commitment to combat global corruption that facilitates transnational crime and terrorism and undermines economic growth. Through Global Magnitsky, the Administration is taking action to execute the President's vision as described in the NSS.

Actions taken in 2020 continue to demonstrate the reach, flexibility, and broad scope of the Global Magnitsky authorities. The United States responded to serious human rights abuses and corruption globally, addressing some of the most egregious behavior this tool can attempt to disrupt and deter. These actions targeted, among other things, serious human rights abusers affecting millions of members of Muslim minority groups in northwest China's Xinjiang province; corrupt actors in South Sudan involved in draining the country of critical resources; and Ugandan officials engaged in an adoption scam that victimized Ugandan-born children. These designations clearly demonstrate the resolve of the Administration to leverage this important tool, when appropriate, to target individuals and entities engaging in specified conduct.

When considering economic sanctions under Global Magnitsky, the United States prioritizes actions that are expected to produce a tangible and significant impact on the sanctioned persons and their affiliates and prompt changes in behavior or disrupt the activities of malign actors. Persons sanctioned pursuant to this authority appear on the Office of Foreign Assets Control's (OFAC) List of Specially Designated Nationals and Blocked Persons (SDN List). As a result of these actions, all property and interests in property of the sanctioned persons that are in the United States or in the possession or control of U.S. persons, are blocked and must be reported to OFAC. Unless authorized by a general or specific license issued by OFAC or otherwise exempt, OFAC's regulations generally prohibit all transactions by U.S. persons or within (or transiting) the United States that involve any property or interests in property of designated or otherwise blocked persons. The prohibitions include the making of any contribution or provision of funds, goods, or services by, to, or for the benefit of any blocked person or the receipt of any contribution or provision of funds, goods or services from any such person.

The Secretary of the Treasury, in consultation with the Secretary of State and the Attorney General, imposed financial sanctions on the following persons pursuant to E.O. 13818:

1. Taban Deng Gai: Deng Gai was designated on January 8, 2020, for his link to serious human rights abuse, including disappearances and killings. As First Vice President of South Sudan, Deng reportedly arranged and directed the disappearance and deaths of human rights lawyer Samuel Dong Luak and Sudan People's Liberation Movement—In Opposition (SPLM-IO) member Aggrey Idry. Deng directed these actions in order to solidify his position within President Kiir's government and to intimidate members of the SPLM-IO.

2. Xinjiang Public Security Bureau (XPSB): The XPSB was designated on July 9, 2020 for its involvement in serious human rights abuse, which reportedly includes mass arbitrary detention and severe physical abuse, among other serious abuses targeting Uyghurs, a Turkic Muslim population indigenous to Xinjiang, and members of other religious and ethnic minority groups in the region. The XPSB, through the Integrated Joint Operations Platform (IJOP), uses digital surveillance systems to track Uyghurs' movements and activities, to include surveilling who they interact with and what they read. In turn, IJOP uses this data to determine which persons could be potential threats; according to reports, some of these individuals are subsequently detained and sent to detention camps, being held indefinitely without charges or trial.

3. Chen Quanguo: Chen was designated on July 9, 2020 for his connection to serious human rights abuse against members of religious and ethnic minority groups in Xinjiang. Chen is the Party Secretary of the Xinjiang Uyghur Autonomous Region, a position he was appointed to in 2016, following Chen's notorious history of intensifying security operations in the Tibetan Autonomous Region to tighten control over the Tibetan ethnic minorities.

4. Huo Liujun: Huo was designated on July 9, 2020 for his connection to serious human rights abuse against members of religious and ethnic minority groups in Xinjiang. Huo was the former Party Secretary of the XPSB from at least March 2017 to 2018.

5. Wang Mingshan: Wang was designated on July 9, 2020 for his connection to serious human rights abuse against members of religious and ethnic minority groups in Xinjiang. Wang has been the leader of the XPSB since at least May 2018.

6. Zhu Hailun: Zhu was designated on July 9, 2020 for his connection to serious human rights abuse against members of religious and ethnic minority groups in Xinjiang. Zhu, former Deputy Party Secretary of the Xinjiang Uyghur Autonomous Region (XUAR), held several positions in the Chinese Communist Party, prior to holding the position of Party Secretary of the Xinjiang Political and Legal Committee (XPLC) from 2016 to 2019. In this role, Zhu was responsible for maintaining internal security and law enforcement in the XUAR; while Zhu left this role in 2019, he still currently serves as the Deputy Secretary of Xinjiang's People's Congress, a regional legislative body.

7. Xinjiang Production and Construction Corps (XPCC): The XPCC was designated on July 31, 2020 for its connection to serious human rights abuse against members of religious and ethnic minority groups in Xinjiang. The XPCC is a paramilitary organization in the XUAR that is subordinate to the Chinese Communist Party. The XPCC enhances internal control over the region by advancing China's vision of economic development in the XUAR that emphasizes subordination to central planning and resource extraction. Chen Quanguo is the First Political Commissar of the XPCC, a role in which he has exercised control over the entity.

8. Sun Jinlong: Sun was designated on July 31, 2020 in connection with serious human rights abuse against members of religious and ethnic minority groups in Xinjiang. Sun is the former Party Secretary of the XPCC.

9. Peng Jiarui: Peng was designated on July 31, 2020 in connection with serious human rights abuse against members of religious and ethnic minority groups in Xinjiang. Peng is the Deputy Party Secretary and Commander of the XPCC.

10. Moses Mukiibi: Mukiibi was designated on August 17, 2020 for his involvement in corruption in Uganda. Mukiibi, a Ugandan judge, participated in a scheme whereby, in certain instances, young children were removed from Ugandan families under promises for “special education” programs and study in the United States, and were subsequently offered to U.S. families for adoption. Members of this scheme facilitated multiple bribes to Ugandan judge Mukiibi, and other Ugandan government officials, either directly or through an interlocutor.

11. Wilson Musalu Musene: Musene was designated on August 17, 2020 for his involvement in corruption in Uganda. Musene, a Ugandan judge, participated in a scheme whereby, in certain instances, young children were removed from Ugandan families under promises for “special education” programs and study in the United States, and were subsequently offered to U.S. families for adoption. Members of this scheme negotiated with Musene a flat fee for processing adoption cases. In at least one case, a member of the scheme met directly with Musene to arrange an additional amount of money required for Musene to expedite the date of a pending adoption case on Musene's court calendar.

12. Dorah Mirembe: Mirembe was designated on August 17, 2020 for her role in providing support to corruption. Mirembe, a Ugandan lawyer, participated in a scheme whereby, in certain instances, young children were removed from Ugandan families under promises for “special education” programs and study in the United States, and were subsequently offered to U.S. families for adoption. The adoption agency organizing the scheme used Mirembe's law firm to handle the legal aspects of the adoptions, in some cases through the manipulation or falsification of court documents.

13. Patrick Ecobu: Ecobu was designated on August 17, 2020 for his role in providing support to corruption. Ecobu, the husband of Mirembe, participated in a scheme whereby, in certain instances, young children were removed from Ugandan families under promises for “special education” programs and study in the United States, and were subsequently offered to U.S. families for adoption. In order to arrange the adoption of the children, Ecobu assisted Mirembe in facilitating multiple bribes to Ugandan judges Mukiibi, Musene, and other Ugandan government officials, either directly or through an interlocutor.

14. Union Development Group (UDG): UDG was designated on September 15, 2020 for its involvement in corruption in Cambodia. UDG is a PRC state-owned entity acting for or on behalf of a PRC official that, on May 9, 2008, was granted a 99-year lease with the Cambodian government for 36,000 hectares (approximately 90,000 acres) of land in the Koh Kong province of Cambodia. Following the approved lease, UDG began to develop the $3.8 billion Dara Sakor project, ostensibly to be used as a tourism development. UDG, through Kun Kim, a senior Cambodian general previously designated under E.O. 13818, used Cambodian military forces to intimidate local villagers and to clear out land necessary for UDG to build the Dara Sakor project. Kim was instrumental in the UDG development and reaped significant financial benefit from his relationships with UDG.

15. Nabah Ltd: Nabah was designated on September 15, 2020 for its role in providing support to Ashraf Seed Ahmed Al-Cardinal, who was previously designated on October 11, 2019, for his involvement in bribery, kickbacks and procurement fraud with senior government officials. Nabah is owned or controlled by Al-Cardinal. Al-Cardinal himself was part of a sanctions evasion scheme in which a senior South Sudanese official used a bank account in the name of one of Al-Cardinal's companies to store his personal funds in an attempt to avoid the effects of U.S. sanctions.

16. Zineb Souma Yahya Jammeh: Zineb was designated on September 15, 2020 for her role in providing support to Yahya Jammeh, the former President of The Gambia who was sanctioned on December 21, 2017 for his long history of engaging in human rights abuses and corruption. Zineb is the former First Lady of The Gambia and the current wife of Jammeh. Zineb has reportedly been instrumental in aiding and abetting Jammeh's economic crimes against The Gambia. She is also believed to be in charge of most of Jammeh's assets around the world, and utilized a charitable foundation as cover to facilitate the illicit transfer of funds to her husband.

17. Gibran Bassil: Bassil was designated on November 6, 2020 for his involvement in corruption in Lebanon. Bassil has held several high-level posts in the Lebanese government, including serving as the Minister of Telecommunications, the Minister of Energy and Water, and the Minister of Foreign Affairs and Emigrants, and Bassil has been marked by significant allegations of corruption. In 2017, Bassil strengthened his political base by appointing friends to positions and purchasing other forms of influence within Lebanese political circles. In 2014, while Minister of Energy, Bassil was involved in approving several projects that would have steered Lebanese government funds to individuals close to him through a group of front companies.

18. Mohamed al-Kani: Al-Kani was designated on November 25, 2020 for being the leader of the Kaniyat Militia in Libya, which over several years gained control over the city of Tarhouna, Libya, while detaining, torturing, and murdering civilians. In April 2019, the Kaniyat militia changed allegiances from Libya's recognized Government of National Accord (GNA), to the self-styled Libyan National Army (LNA), providing the LNA a foothold near Tripoli during its offensive against the Libyan capital. In June 2020, following a de facto truce, GNA-aligned forces re-entered Tarhouna and discovered at least 11 mass graves containing the bodies of civilians previously detained by the Kaniyat militia, including women, children, and elderly. Some of the deceased appeared to have been tortured, burned, or buried alive. The Kaniyat militia is also responsible for hundreds of summary executions at Tarhouna prison, numerous forced disappearances, and the displacement of entire families from Tarhouna. OFAC also designated the Kaniyat Militia for being responsible for or complicit in, or for having directly or indirectly engaged in, serious human rights abuse.

19. Harry Varney Gboto-Nambi Sherman: Sherman was designated on December 9, 2020 for his involvement in corruption in Liberia. A prominent lawyer, Liberian senator, and Chair of the Liberian Senate Judiciary Committee, Sherman was indicted in 2016 by the Liberian government, along with several other government officials, for his involvement in a bribery scheme. Sherman offered bribes to multiple judges associated with his trial, has routinely paid judges to decide cases in his favor, and has allegedly facilitated payments to Liberian politicians to support impeachment of a judge who has ruled against him. Sherman's acts of bribery demonstrate a larger pattern of behavior to exercise influence over the Liberian judiciary and the Ministry of Justice.

20. Raimbek Matraimov: Matraimov was designated on December 9, 2020 for his involvement in corruption in the Kyrgyz Republic. A former deputy of the Kyrgyz Customs Service, Matraimov was involved in a customs scheme in which at least USD 700 million was laundered from the Kyrgyz Republic. The scheme involved a company and their evasion of customs fees. Matraimov used his position to ensure that the company's goods would be able to seamlessly pass through the borders of the Kyrgyz Republic and was in charge of collecting and distributing bribes that came from this company, among other things. Matraimov, utilizing his former position as deputy of the Kyrgyz Customs Service, made hundreds of millions of dollars as a result of his involvement in the customs scheme.

21. Wan Kuok Koi: Koi was designated on December 9, 2020 for his involvement in corruption in Southeast Asia. Koi is a member of the Communist Party of China's (CCP) Chinese People's Political Consultative Conference, and is a leader of the 14K Triad, one of the largest Chinese organized criminal organizations in the world that engages in drug trafficking, illegal gambling, racketeering, human trafficking, and a range of other criminal activities. In addition to bribery, corruption and graft, the 14K Triad has engaged in similar illicit activities in Palau. OFAC also designated three entities that are owned or controlled by Koi.

22. Jimmy Cherizier: Cherizier was designated on December 10, 2020 for his involvement in serious human rights abuse in Haiti. While serving as an officer in the Haitian National Police (HNP), Cherizier planned and participated in the November 2018 deadly attack against civilians in a Port-au-Prince neighborhood known as La Saline. During this attack, at least 71 people were killed, over 400 houses were destroyed, and at least seven women were raped by armed gangs. Throughout 2018 and 2019, Cherizier led armed groups in coordinated, brutal attacks in Port-au-Prince neighborhoods. Most recently, in May 2020, Cherizier led armed gangs in a five-day attack in multiple Port-au-Prince neighborhoods in which civilians were killed and houses were set on fire. Cherizier is now one of Haiti's most influential gang leaders and leads an alliance of nine Haitian gangs known as the “G9 alliance.”

23. Fednel Monchery: Monchery was designated on December 10, 2020 for his involvement in serious human rights abuse in Haiti. Monchery was the Director General of the Ministry of the Interior and Local Authorities and, while serving in this role, participated in the planning of La Saline. Monchery supplied weapons and state vehicles to members of armed gangs who perpetrated the attack. Monchery also attended a meeting during which La Saline was planned and where weapons were distributed to the perpetrators of the attack.

24. Joseph Pierre Richard Duplan: Duplan was designated on December 10, 2020 for his involvement in serious human rights abuse in Haiti. Duplan, who was Haitian President Jovenal Moïse's Departmental Delegate at the time of La Saline, is accused of being the “intellectual architect” and was seen discussing the attack with armed gang members in the La Saline neighborhood during the violence. Duplan provided firearms and HNP uniforms to armed gang members who participated in the killings.

25. Sultan Zabin: Zabin was designated on December 10, 2020 for his involvement in serious human rights abuse in Yemen. As the current Director of the Sana'a-based Criminal Investigation Department (CID), Zabin and his CID officers have arrested, detained, and tortured women under the pretense of a policy designed to curb prostitution and organized crime. In reality, this policy was used to target politically active women who opposed the Houthis, and resulted in numerous reported cases of illegal arrest, arbitrary detention, enforced disappearance, sexual violence, rape, torture, and other cruel treatment utilized by the Sana'a CID against these women.

26. Abdul-Hakim Al-Khaiwani: Khaiwani was designated on December 10, 2020 for his involvement in serious human rights abuse in Yemen. As a Houthi member and Deputy Minister of the Interior, Khaiwani was responsible for many detention facilities and security forces, including the Sana'a CID. The illegal arrest, detention, and torture of women conducted by the CID was done so under the ultimate authority of the Ministry of Interior. Khaiwani currently serves as the Director of the Security and Intelligence Service, Yemen's new security and intelligence agency.

27. Abdul Rahab Jarfan: Jarfan was designated on December 10, 2020 for his involvement in serious human rights abuse in Yemen. Jarfan is a Houthi member and the former Head of Yemen's National Security Bureau (NSB). Under Jarfan, the NSB systematically engaged in torture and abusive detention of Yemeni citizens.

28. Motlaq Amer al-Marrani: Al-Marrani was designated on December 10, 2020 for his involvement in serious human rights abuse in Yemen. During his tenure as a leader or official of the NSB, Marrani oversaw detainees of the NSB, who were reportedly subjected to torture and other mistreatment by members of the NSB while detained. In addition, Marrani played a significant role in the arrest, detention, and ill treatment of humanitarian workers and other authorities working on humanitarian assistance and was also found to have abused his authority and influence over humanitarian access as leverage to generate personal profit.

29. Qader al-Shami: Shami was designated on December 10, 2020 for his involvement in serious human rights abuse in Yemen. Shami is the former director of Yemen's Political Security Organization (PSO). Since late 2014, the PSO has been responsible for the regular practice of illegal detention and torture of prisoners, including children. PSO officials were found to have been keeping detainees in undisclosed locations, subjecting them to torture, and not allowing them to communicate with their families, depriving them of their fundamental liberties. Al-Shami currently serves as the Deputy Director of the Security and Intelligence Bureau, a role he has occupied since the organization's inception in September 2019.

30. Ramzan Kadyrov: Kadyrov was designated on December 10, 2020 for his involvement in serious human rights abuse in Russia. Kadyrov is the Head of the Chechen Republic and the leader of an organization, the Kadyrovtsy, that has engaged in, or whose members have engaged in, serious human rights abuses. Kadyrov and the forces he commands, commonly known as the Kadyrovtsy, are implicated in the murder of Boris Nemtsov, an opposition politician to Russian President Vladimir Putin, and other serious violations of human rights. In addition to Kadyrov, OFAC is designating six companies registered in Russia that continue to provide Kadyrov pride and significant profit.

31. Vakhit Usmayev: Usmayev was designated on December 10, 2020 for his involvement in serious human rights abuse in Russia. Usmayev, the Deputy Prime Minister of Chechnya, has acted or purported to act for or on behalf of, directly or indirectly, Kadyrov.

32. Timur Dugazaev: Dugazaev was designated on December 10, 2020 for his involvement in serious human rights abuse in Russia. A representative of Kadyrov in Europe, Dugazaev has acted or purported to act for or on behalf of, directly or indirectly, Kadyrov.

33. Ziyad Sabsabi: Sabsabi was designated on December 10, 2020 for his involvement in serious human rights abuse in Russia. A representative of Kadyrov, Sabsabi has acted or purported to act for or on behalf of, directly or indirectly, Kadyrov.

34. Daniil Vasilievich Martynov: Martynov was designated on December 10, 2020 for his involvement in serious human rights abuse in Russia. A personal security advisor for Kadyrov, Martynov has acted or purported to act for or on behalf of, directly or indirectly, Kadyrov.

35. Satish Seemar: Seemar was designated on December 10, 2020 for his involvement in serious human rights abuse in Russia. A horse trainer for Kadyrov, Seemar has materially assisted, sponsored, or provided financial, material, or technological support for, or goods and services to or in support of, Kadyrov.

Visa Restrictions Imposed

Although no visa restrictions were imposed under the Act during 2020, persons designated pursuant to E.O. 13818 shall be subject to the visa restrictions articulated in section 2, unless an exception applies. Section 2 provides that the entry of persons designated under section 1 of the order is suspended pursuant to Presidential Proclamation 8693. In 2020, the State Department also applied, when appropriate, visa restrictions on foreign persons involved in significant corruption or gross violation of human rights under other authorities, reported to Congress through other means. As appropriate, the Department of State will take additional action to impose visa restrictions on those responsible for certain human rights violations and significant corruption pursuant to other authorities, including Presidential Proclamations 7750 and 8697, and Section 7031(c) of the FY2020 Department of State, Foreign Operations, and Related Programs, as carried forward by the FY2021 Continuing Appropriations Act, 2021. In addition, section 212(a)(3)(E) of the Immigration and Nationality Act renders aliens ineligible for visas if a consular officer has reason to believe that they participated in acts of genocide, torture or extrajudicial killings.

Efforts To Encourage Governments of Other Countries To Impose Sanctions Similar to Those Authorized by the Act

In 2020, the Administration continued its successful outreach campaign to international partners regarding the expansion of domestic and multilateral anticorruption and human rights sanctions regimes. Following support by the Departments of State and the Treasury over the course of 2018-2019 to deliver expertise on the underpinnings of the Global Magnitsky sanctions program, the United Kingdom established a Global Human Rights (GHR) sanctions regime pursuant to its Sanctions and Anti-Money Laundering Act 2018 on July 6, 2020. In February 2020, the Departments of State and the Treasury formed a technical delegation to brief Australian partners at the invitation of Parliament, which initiated an inquiry into whether Australia should adopt a human rights-based sanctions regime. The Administration also welcomed the European Union's adoption of its global human rights sanctions framework on December 7, 2020. Over the last year, the Administration has worked closely with the Canadian and British governments in pursuing coordinated actions against human rights abusers and corrupt actors. Throughout this and future outreach, the Administration has identified champions, partners, and potential spoilers of the objectives established by Congress within the Act. The Departments of State and the Treasury have, over the last year, shared information, coordinated messaging, and provided technical assistance to this end. The Administration will continue to seek out additional allies and partners to jointly leverage all tools at our disposal to deny access to the U.S. and international financial systems to all those who engage in serious human rights abuses and corruption.

Dated: December 23, 2020.
David Hale,
Under Secretary for Political Affairs, Department of State.

[FR Doc. 2020-29015 Filed 12-31-20; 8:45 am]

BILLING CODE 4710-AE-P